ENVIRONMENTAL PROTECTION AGENCY

[EPA-HQ-OPPT-2020-0077; FRL-10009-97]

Certain New Chemicals; Receipt and Status Information for April 2020

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 04/01/2020 to 04/30/2020.

DATES: Comments identified by the specific case number provided in this document must be received on or before July 1, 2020.

ADDRESSES: Submit your comments, identified by docket identification (ID) number EPA-HQ-OPPT-2020-0077, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Please note that due to the public health emergency the EPA Docket Center (EPA/DC) and Reading Room was closed to public visitors on March 31, 2020. Our EPA/DC staff will continue to provide customer service via email, phone, and webform. For further information on EPA/DC services, docket contact information and the current status of the EPA/DC and Reading Room, please visit https://www.epa.gov/dockets.

FOR FURTHER INFORMATION CONTACT: For technical information contact: Jim Rahai, Information Management Division (7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from 04/01/2020 to 04/30/2020. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the Toxic Substances Control Act (TSCA), 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory please go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995, (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs that have passed an initial screening by EPA during this period, Table I provides the following information (to the extent that such information is not subject to a CBI claim) on the notices screened by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g. P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Approved * From 04/01/2020 to 04/30/2020
Case No. | Version | Received date | Manufacturer | Use | Chemical substance
P-16-0206A | 3 | 04/21/2020 | Evonik Corporation | (S) Pigment Dispersing additive for pigment dispersions for industrial coatings | (G) Formaldehyde ketone condensate polymer.
P-16-0509A | 12 | 04/24/2020 | CBI | (G) For packaging application | (G) Modified ethylene-vinyl alcohol copolymer.
P-17-0086A | 7 | 03/20/2020 | CBI | (G) Fragrance Chemical | (G) Cycloalkyl, bis(ethoxyalkyl)-, trans- Cycloalkyl, bis(ethoxyalkyl)-, cis-.
P-17-0294A | 2 | 04/22/2020 | CBI | (S) The PMN substance will be used as an organic peroxide polymerization initiator for unsaturated acrylic, unsaturated polyester and vinyl ester resins | (S) 2-butanone, 3-methyl-, peroxide.
P-17-0333A | 7 | 04/20/2020 | Miwon North America, Inc | (S) Reactive diluent for optical film coating | (G) 2-Propenoic acid, mixed esters with heterocyclic dimethanol and heterocyclic methanol.
P-17-0389A | 7 | 04/28/2020 | CBI | (G) Polymer precursor | (G) Alkyl oil, polymer with 1,4-cyclohexanedimethanol, dehydrated Alkyl oil, hydrogentated rosin, phthalic anhydride and trimethylolpropane.
P-18-0019A | 4 | 03/26/2020 | Cabot Corporation | (S) Dispersive pigment | (G) Substituted Benzene, 4-[2-[2-hydroxy-3-[[(3-nitrophenyl)amino]carbonyl]-1-naphthalenyl]diazenyl]-, sodium salt (1:1).
P-18-0056A | 9 | 04/17/2020 | CBI | (S) Rubber Adhesion promoter. Use in the manufacturing process of tires | (S) Cobalt Neodecanoate Propionate complexes.
P-18-0098A | 2 | 04/02/2020 | Allnex, USA Inc | (S) Dispersing additive for pigments | (G) Polyphosphoric acids, polymers with (alkoxyalkoxy)alkanol and substituted heteromonocycle.
P-18-0104A | 8 | 03/18/2020 | CBI | (S) Halogen free flame retardant in thermoplastic polymers | (G) Acrylic acid, reaction products with pentaerythritol, polymerized.
P-18-0150A | 5 | 03/24/2020 | CBI | (G) Component of an industrial coating | (G) Tertiary amine, compounds with amino sulfonic acid blocked aliphatic isocyanate homopolymer.
P-18-0154A | 9 | 04/23/2020 | CBI | (G) Crosslinking agent for coatings | (G) IIsocyanic acid, polyalkylenepolycycloalkylene ester, 2-alkoxy alkanol and 1-alkoxy alkanol and alkylene diol blocked.
P-18-0258A | 4 | 04/14/2020 | CBI | (G) Copolyamide for Packaging Films, Molding Parts, and Monofilament | (G) Dioic acids, polymers with caprolactam and alkyldiamines.
P-18-0259A | 4 | 04/14/2020 | CBI | (G) Copolyamide for Packaging Films, Molding Parts and Monofilament | (G) Fatty acids, dimers, hydrogenated, polymers with caprolactam and alkyl diamine.
P-18-0262A | 7 | 04/24/2020 | Seppic | (S) Function: Stabilizer of suspensions Applications: Detergency | (S) 2-Propenoic acid, 2-methyl-, dodecyl ester, polymer with ammonium 2-methyl-2-[(1-oxo-2-propen-1-yl)amino]-1-propanesulfonate (1:1), N,N-dimethyl-2-propenamide and .alpha.-(2-methyl-1-oxo-2-propen-1-yl)-.omega.-(dodecyloxy)poly(oxy-1,2-ethanediyl).
P-18-0270A | 5 | 04/27/2020 | Specialty Elements, LLC | (S) Active co-solvent for solvent-based coatings, coalescent for industrial water-based coatings, coupling agent and solvent in industrial cleaners, rust removers, hard surface cleaners, and disinfectants, primary solvent-based silk screen printing, coupling agent for resins and dyes in water-based printing inks, and co-solvent for agricultural pesticides | (G) Ethanol, 2-butoxy-, 1,1′-ester.
P-18-0271A | 5 | 04/27/2020 | Specialty Elements, LLC | (S) Active co-solvent for solvent-based coatings, coalescent for industrial water-based coatings, coupling agent and solvent in industrial cleaners, rust removers, hard surface cleaners, and disinfectants, primary solvent-based silk screen printing, coupling agent for resins and dyes in water-based printing inks, and co-solvent for agricultural pesticides. | (G) 2-Propanol, 1-butoxy-, 2,2′-ester.
P-18-0326A | 8 | 04/27/2020 | CBI | (G) Chemical Intermediate | (G) Alkanoic acid, alkyl ester, manuf. of, byproducts from, distn. residues.
P-18-0327A | 6 | 04/20/2020 | CBI | (G) Filler for non-dispersive resins | (G) Mixed Metal Oxide.
P-18-0329A | 3 | 03/20/2020 | CBI | (G) Component of lenses used in electronic applications | (G) Substituted carbopolycyclic dicarboxylic acid dialkyl ester, polymer with alkanediol and carbopolycyclic bis (substituted carbopolycycle) bisalkanol.
P-18-0376A | 5 | 03/30/2020 | Sumitomo Chemical Advanced Technologies LLC | (S) Substance used to improve physical properties in rubber products | (G) Thiosulfuric acid, aminoalkyl ester.
P-18-0380A | 6 | 04/07/2020 | CBI | (G) Automotive brake parts (contained use) | (G) Butanoic acid ethyl amine.
P-18-0381A | 3 | 03/30/2020 | The Shepherd Color company | (G) For use in exterior paints and plastics | (S) Indium manganese yttrium oxide.
P-18-0382A | 2 | 04/08/2020 | CBI | (G) Dye for printing ink | (G) Xanthylium, bis[dicarboxycyclic]sulfonylamino-alkylcyclicamino-disulfo-sulfocyclic-, inner salt, monocationic salt.
P-19-0019A | 4 | 04/17/2020 | CBI | (G) Intermediate | (G) Haloalkane.
P-19-0048A | 6 | 03/18/2020 | CBI | (G) Coating additive | (S) Poly(oxy-1,2-ethanediyl), .alpha.-hydro-.omega.-hydroxy-, mono-C12-14-alkyl ethers, phosphates, sodium salts.
P-19-0053A | 8 | 03/23/2020 | Wacker Chemical Corporation | (S) Used as a surface treatment, sealant, caulk, and coating for mineral building materials such as concrete, brick, limestone, and plaster, as well as on wood, metal and other substrates | (S) 1-Butanamine, N-butyl-N-[(triethoxysilyl)methyl]-.
P-19-0077A | 12 | 03/31/2020 | CBI | (G) agricultural | (G) alkenylamide.
P-19-0088A | 5 | 04/13/2020 | CBI | (G) Feedstock for amine recovery | (S) Ethanamine, N-ethyl-, 2-hydroxy-1,2,3-propanetricarboxylate (1:?).
P-19-0109A | 9 | 04/07/2020 | Arch Chemicals, Inc | (G) The chemical is used as a component of a cleaning formulation to improve the wettability of the overall cleaning solution on the substrate | S) Copper, bis[2-(amino-.kappa.N)ethanolato-.kappa.O]-;.
P-19-0122A | 2 | 03/31/2020 | CBI | (G) Reactant monomer in a polymer for industrial use | (G) 2-propenoic acid, 2-(hydrogenated animal-based nitrogen-substituted) ethyl ester.
P-19-0134A | 6 | 04/02/2020 | Conklin Co., Inc | (S) Binder for moisture cure coatings | (G) [5-isocyanato-1-(isocyanatomethyl)-1,3,3-trimethylcyclohexane], [Poly[oxy(methyl-1,2-ethanediyl)], .alpha.-hydro-.omega.-hydroxy-, polymer with 1,6-diisocyanatohexane], polymer with [Poly(oxy-1,4-butanediyl), .alpha.-hydro-.omega.-hydroxy-], [Cyclic amine—ketone adduct, reduced], and [1,3-Propanediol, 2-ethyl-2-(hydroxymethyl)-].
P-19-0134A | 7 | 04/15/2020 | CBI | (S) Binder for moisture cure coatings | (G) [5-isocyanato-1-(isocyanatomethyl)-1,3,3-trimethylcyclohexane], [Poly[oxy(methyl-1,2-ethanediyl)], .alpha.-hydro-.omega.-hydroxy-, polymer with 1,6-diisocyanatohexane], polymer with [Poly(oxy-1,4-butanediyl), .alpha.-hydro-.omega.-hydroxy-], [Cyclic amine—ketone adduct, reduced], and [1,3-Propanediol, 2-ethyl-2-(hydroxymethyl)-].
P-19-0145A | 7 | 03/30/2020 | ARC Products, Inc | (S) Oil Field Drilling Fluid Additive, Oil Field Petroleum Production Fluid Additive, and Oilfield Fracturing Fluid Additive | (G) Polyazaalkane with oxirane and methyloxirane, haloalkane.
P-19-0153A | 5 | 03/17/2020 | Wego Chemical Group | (S) Raw material in Flame Retardant product | (G) Dibromoalkyl ether Tetrabromobisphenol A.
P-19-0174A | 5 | 03/18/2020 | International Lubricants Inc | (G) Phosphorus antiwear compound | (G) Octadecanoic acid, (alkylphosphinyl), polyol ester.
P-19-0189A | 2 | 03/24/2020 | CBI | (S) Reactive polymer for use in adhesives and sealants | (G) Fatty acids, polymers with alkanediol and 1,1'-methylenebis[4-isocyanatobenzene].
P-20-0010A | 6 | 03/20/2020 | CBI | (G) Polymerization auxiliary | (G) Carboxylic acid, reaction products with metal hydroxide, inorganic dioxide and metal.
P-20-0011A | 6 | 04/22/2020 | CBI | (G) Light stabilizer | (G) Tetraoxaspiro[5.5]alkyl-3,9-diylbis(alkyl-2,1-diyl) bis(2-cyano-3-(3,4-dimethoxyphenyl)acrylate).
P-20-0027A | 6 | 04/03/2020 | H.B. Fuller Company | (S) Industrial Adhesives | (G) Glycols, alpha, omega-, C2-6, polymers with adipic acid, dodecanedioic acid, hydracrylic acid polyester, isophthalic acid, 1,1′-methylenebis[4-isocyanatobenzene], neopentyl glycol and terephthalic acid.
P-20-0028A | 6 | 04/03/2020 | H.B. Fuller Company | (S) Industrial Adhesives | (G) Glycols, alpha, omega-, C2-6, polymers with adipic acid, aromatic polyester, dodecanedioic acid, hydracrylic acid polyester, isophthalic acid, 1,1′-methylenebis[4-isocyanatobenzene], neopentyl glycol and terephthalic acid.
P-20-0029A | 4 | 03/20/2020 | Kuraray America, Inc | (G) Oil soluble additive | (S) Octanal, 7(or 8)-formyl-.
P-20-0032A | 4 | 03/26/2020 | Engineered Bonded Structures and Composites | (S) Talathol PO3, the material for which this notice is filed, is intended to be used as a copolymer in the production of urethane foam or coating | (G) Polyethylene terephthalate polyol.
P-20-0039A | 3 | 04/16/2020 | Miwon North America, Inc | (S) Resins for Industrial coating | (G) Hexanedioic acid, polymer with alkyl(substituted-alkyl)-alkanediol and 1,3-isobenzofurandione, 2-propenoate.
P-20-0041A | 3 | 03/25/2020 | Kuraray America, Inc | (G) Chemical Intermediate for Coatings | (S) 1,3-Benzenedicarboxylic acid, polymer with 3-methyl-1,5-pentanediol.
P-20-0046A | 2 | 04/09/2020 | CBI | (G) Catalyst | (G) Reaction products of alkyl-terminated alkylalumuminoxanes and {[(pentaalkylphenyl-(pentaalkylphenyl)amino)alkyl]alkanediaminato}bis(aralkyl) transition metal coordination compound.
P-20-0046A | 3 | 04/27/2020 | CBI | (G) Catalyst | (G) Reaction products of alkyl-terminated alkylalumuminoxanes and {[(pentaalkylphenyl-(pentaalkylphenyl)amino)alkyl]alkanediaminato}bis(aralkyl) transition metal coordination compound.
P-20-0048 | 2 | 04/09/2020 | CBI | (G) Catalyst | (G) Reaction products of alkyl-terminated alkylaluminoxanes and dihalogeno(alkylcyclopentadienyl)(tetraalkylcyclopentadienyl)transition metal coordination compound.
P-20-0048A | 3 | 04/27/2020 | CBI | (G) Catalyst | (G) Reaction products of alkyl-terminated alkylaluminoxanes and dihalogeno(alkylcyclopentadienyl)(tetraalkylcyclopentadienyl)transition metal coordination compound.
P-20-0049 | 2 | 04/09/2020 | CBI | (G) Catalyst | (G) Reaction products of alkyl-aluminoxanes and bis(alkylcyclodialkylene)dihalogenozirconium.
P-20-0049A | 3 | 04/27/2020 | CBI | (G) Catalyst | (G) Reaction products of alkyl-aluminoxanes and bis(alkylcyclodialkylene)dihalogenozirconium.
P-20-0052A | 2 | 04/15/2020 | Evonik Corporation | (S) Liquid shrinkage reducing admixture for concrete | (S) Oxirane, 2-methyl-, polymer with oxirane, mono(3,5,5-trimethylhexanoate).
P-20-0052A | 3 | 04/17/2020 | Evonik Corporation | (S) Liquid shrinkage reducing admixture for concrete | (S) Oxirane, 2-methyl-, polymer with oxirane, mono(3,5,5-trimethylhexanoate).
P-20-0054A | 3 | 04/06/2020 | CBI | (G) Catalyst is used in a closed process | (S) Nitrile hydratase.
P-20-0056A | 3 | 04/13/2020 | CBI | (G) Pigment dispersant | (G) Polyphosphoric acids, 2-[(alkyl-1-oxo-alkene-1-yl)oxy]alkyl esters, polymers with acrylic acid, alkyl acrylate, alkyl methacrylate, hydroxyalkyl methacrylate and carbomonocycle, 2,2′-(1,2-diazenediyl)bis[2,4-dialkylalkanenitrogensubstituted]-initiated.
P-20-0066A | 2 | 03/22/2020 | CBI | (G) Antiwear additive for lubricants | (G) 2-Propenoic acid, 2-hydroxyethyl ester, reaction products with dialkyl hydrogen heterosubstituted phosphate and dimethyl phosphonate.
P-20-0073 | 2 | 03/26/2020 | CBI | (G) Oil and gas production chemistry | (G) Dialkylamino-alkylamino-alkyloxycarbonic acid acetate.
P-20-0074A | 2 | 04/17/2020 | Clariant Corporation | (S) Surfactant for use in the formulation of pesticide products | (S) Oxirane, 2-methyl-, polymer with oxirane, monoundecyl ether, branched and linear.
P-20-0075A | 2 | 03/26/2020 | CBI | (G) Pigment dispersant | (G) Phenol, 4,4′-(1-alkylalkylidene)bis-, polymer with 2-(2-aminoalkoxy)alcohol,2-(chloroalkyl)oxirane, N1,N1-dialkyl-1,3-alkanediamine and .alpha-hydro-.omega.-hydroxypoly[oxy(alkyl-1,2-alkanediyl)], branched 4-alkylphenyl ethers, acetates (salts).
P-20-0078 | 1 | 03/30/2020 | Ascend Performance Materials | (G) Stabilizer for industrial applications | (G) Dicarboxylic acid, compd. with aminoalkyl-alkyldiamine alkyldioate alkyldioate (1:2:1:1).
P-20-0079 | 1 | 03/30/2020 | Ascend Performance Materials | (G) Stabilizer for industrial applications | (G) Dicarboxylic acid, compd. with aminoalkyl-alkyldiamine (3:2).
P-20-0080 | 4 | 04/07/2020 | Ascend Performance Materials | (G) Stabilizer for industrial applications | (G) Alkyldiamine, aminoalkyl-, hydrochloride (1:3).
P-20-0081 | 4 | 04/07/2020 | Ascend Performance Materials | (G) Stabilizer for industrial applications | (G) Carboxylic acid, compd. with aminoalkyl-alkyldiamine (3:1).
P-20-0082 | 4 | 04/07/2020 | Ascend Performance Materials | (G) Stabilizer for industrial applications | (G) Alkyldiamine, aminoalkyl-, carboxylate (1:3).
P-20-0083 | 1 | 03/31/2020 | CBI | (G) Reactant monomer in a polymer for industrial use | (G) 2-propenoic acid, nitrogen-substituted alkyl, N-C16-18-acyl derivs.
P-20-0084 | 2 | 04/02/2020 | CBI | (G) paper treatment additive | (G) 2-propenoic acid, 2-methyl, 2-(dimethylamino)ethyl ester, polymers with 2-(C16-18-acylamino)ethyl acrylate and hydroxyalkyl acrylate, acetates (salts).
P-20-0086 | 2 | 04/22/2020 | Daicel Chemtech, Inc | (G) Component of polymers | (G) 2-Oxepanone, homopolymer, ester with hydroxyalkyl trioxo heteromonocyclic (3:1).
P-20-0087 | 2 | 04/24/2020 | Evonik Corporation | (S) Component in Hard Surface Cleaners, and Laundry Detergent | (S) Alcohols, C8-10-iso-, C9-rich, ethoxylated.
P-20-0090 | 2 | 04/23/2020 | Clariant Corporation | (S) Surfactant for use in dishwashing detergents | (G) Poly(oxy-1,2-ethanediyl), .alpha.-(alkyl-hydroxyalkyl)-.omega.-hydroxy-, .omega.-alkyl ethers.
SN-16-0013A | 3 | 03/16/2020 | CBI | (G) Surfactant | (G) Polyfluorinated alkyl quaternary ammonium chloride.
SN-20-0002 | 2 | 04/02/2020 | Dover Chemical Corporation | (S) Lubricant in metal-working fluids, grease, oil and engine oils; Plasticizer/flame retardant in textiles, polymers, and paints, and Flame retardant in rubber compounds | (S) Alkanes, C24-28, chloro.
SN-20-0003 | 4 | 04/13/2020 | Dynax Corporation | (S) An anionic fluorosurfactant for main use (>98%) in firefighting foam concentrates such as AFFF (Aqueous Film Forming Foam) and AR-AFFF (Alcohol Resistant Aqueous Film. Forming Foam), and for very minor use (<2%) in coatings and ink applications | (S) 1-Propanesulfonic acid, 2-methyl-2-[[1-oxo-3-[(3,3,4,4,5,5,6,6,7,7,8,8,8-tridecafluorooctyl)thio]propyl]amino]-, sodium salt (1:1).
SN-20-0003A | 5 | 04/15/2020 | Dynax Corporation | (S) An anionic fluorosurfactant for main use (>98%) in firefighting foam concentrates such as AFFF (Aqueous Film Forming Foam) and AR-AFFF (Alcohol Resistant Aqueous Film. Forming Foam), and for very minor use (<2%) in coatings and ink applications | (S) 1-Propanesulfonic acid, 2-methyl-2-[[1-oxo-3-[(3,3,4,4,5,5,6,6,7,7,8,8,8-tridecafluorooctyl)thio]propyl]amino]-, sodium salt (1:1).
SN-20-0004 | 2 | 04/15/2020 | Molecular Rebar Design | (S) For use as an additive in batteries and energy storage devices | (S) single-walled carbon nanotubes.
SN-20-0004A | 3 | 04/20/2020 | Molecular Rebar Design | (S) For use as an additive for enhanced electrical conductivity and mechanical strength in both the cathode and anode of batteries and energy storage devices | (S) single-walled carbon nanotubes.
* The term `Approved' indicates that a submission has passed a quick initial screen ensuring all required information and documents have been provided with the submission prior to the start of the 90-day review period, and in no way reflects the final status of a complete submission review.

In Table II of this unit, EPA provides the following information (to the extent that such information is not claimed as CBI) on the NOCs that have passed an initial screening by EPA during this period: The EPA case number assigned to the NOC including whether the submission was an initial or amended submission, the date the NOC was received by EPA, the date of commencement provided by the submitter in the NOC, a notation of the type of amendment (e.g., amendment to generic name, specific name, technical contact information, etc.) and chemical substance identity.

Table II—NOCs Approved * From 04/01/2020 to 04/30/2020
Case No. | Received date | Commencement date | If amendment, type of amendment | Chemical substance
J-19-0026 | 04/08/2020 | 02/25/2020 | N | (G) Biofuel-producing modified microorganism(s), with chromosomally-borne modifications.
P-11-0311 | 04/02/2020 | 03/16/2020 | N | (G) Hexanedioic acid, polymer with .alpha.-hydro-.omega.-hydroxypoly[oxy(methyl-1,2-ethanediyl)], 1,1′-methylenebis[4-isocyanatobenzene], dihydroxydialkyl ether and dialkanol ether.
P-12-0146 | 04/28/2020 | 04/14/2020 | N | (S) Phosphinous amide, n-(1,2-dimethylpropyl)-n-(diphenylphosphino)-p,p-diphenyl-.
P-16-0309 | 03/30/2020 | 02/29/2020 | N | (G) 12-hydroxystearic acid, reaction products with alkylene diamine and alkanoic acid.
P-17-0005 | 04/01/2020 | 03/26/2020 | N | (S) 1-tetradecene homopolymer hydrogenated
P-18-0058 | 04/20/2020 | 03/13/2020 | N | (S) Phosphonium, trihexyltetradecyl-, salt with 1,1,1-trifluoro-n-[(trifluoromethyl)sulfonyl]methanesulfonamide (1:1).
P-18-0343 | 04/24/2020 | 03/24/2020 | N | (G) Alkane dicarboxylic acid, polymer with alkoxylated polyalcohol, and alkyl dialcohol, (hydroxy alkyl) ester.
P-18-0344 | 04/27/2020 | 04/01/2020 | N | (G) Aromatic dicarboxylic acid, polymer with alkane dicarboxylic acid, alkoxylated polyalcohol, and alkyl dialcohol.
P-18-0375 | 03/25/2020 | 01/18/2020 | N | (S) Oils, vegetable, sulfonated, sodium salts.
P-18-0385 | 04/17/2020 | 03/20/2020 | N | (S) D-glucopyranose, oligomeric, bu glycosides, polymers with epichlorohydrin, 2-hydroxy-3-sulfopropyl ethers, sodium salts.
P-18-0388 | 04/01/2020 | 03/07/2020 | N | (G) 1,3,5-triazine-2,4,6-triamine, alkanediyl bis[alkyl-tris(alkyl-heterocycle)-, allyl derivs., oxidized, hydrogenated.
P-19-0164 | 04/13/2020 | 04/13/2020 | N | (G) Bis-alkoxy substituted alkane, polymer with aminoalkanol.
* The term ‘Approved' indicates that a submission has passed a quick initial screen ensuring all required information and documents have been provided with the submission.

In Table III of this unit, EPA provides the following information (to the extent such information is not subject to a CBI claim) on the test information that has been received during this time period: The EPA case number assigned to the test information; the date the test information was received by EPA, the type of test information submitted, and chemical substance identity.

Table III—Test Information Received From 04/01/2020 to 04/30/2020
Case No. | Received date | Type of test information | Chemical substance
L-19-0237 | 04/08/2020 | Particle Size Distribution Analysis | (G) Phosphonium, [3-(acetyloxy)alkyl]triphenyl-, bromide (1:1).
P-14-0712 | 04/20/2020 | PCDD/F Test of PMN Substance using EPA Test Method 8290A | (G) Plastics, wastes, pyrolyzed, bulk pyrolysate.
P-16-0289 | 03/30/2020 | Particle Size Distribution Analysis | (G) Semi-aromatic polyamide.
P-16-0543 | 04/10/2020 | Exposure Monitoring Report | (G) Halogenophosphoric acid metal salt.
P-16-0543 | 04/20/2020 | Exposure Monitoring Report | (G) Halogenophosphoric acid metal salt.
P-18-0203 | 03/30/2020 | Fish Early-Life Stage Toxicity Test with Pimephales Promelas (Test Guidelines OECD 210) | (G) Trialkyl alkanal, polymer with alkylalkanal and phenol.
P-18-0205 | 03/31/2020 | Fish Early-Life Stage Toxicity Test with Pimephales Promelas (Test Guidelines OECD 210) | (G) Alkyl alkanal, polymer with formaldehyde and phenol.
P-20-0018 | 04/02/2020 | Gel-Permeation Cleanup and Molecular Weight Study using EPA method 3640A | (G) Fatty acid dimers, polymers with glycerol and triglycerides.
SN-16-0013 | 04/20/2020 | Fish Acute Toxicity Test (OCSPP Test Guideline 850.1075), In Vitro Mammalian Cell Gene Mutation Tests Using the Thymidine Kinase Gene (OECD Test Guideline 490), Hydrolysis as a function of pH (OECD Test Guideline 111), Repeated Dose (21-Day) Dermal Toxicity Study (OECD Test Guideline 410), Daphnia Magna Test, Activated Sludge Respiration Inhibition Test (OECD Test Guideline 209), In Vitro Mammalian Cell Micronucleus Test (OECD Test Guideline 487), Acute Eye Irritation/Corrosion in Rabbits (Oryctolagus cuniculus) Test (OECD Test Guideline 405), Acute Dermal Toxicity in Rat (Rattus Norvegicus) Test (OECD Test Guideline 402), Acute Inhalation Toxicity Test in Rats (Rattus Norvegicus) OECD Test Guideline 403), Development of Human Health Toxicity Study Part 1 and 2 | (G) Polyfluorinated alkyl quaternary ammonium chloride.

If you are interested in information that is not included in these tables, you may contact EPA's technical information contact or general information contact as described under FOR FURTHER INFORMATION CONTACT to access additional non-CBI information that may be available.

(Authority: 15 U.S.C. 2601 et seq.)

Dated: May 15, 2020.
Pamela Myrick,
Director, Information Management Division, Office of Pollution Prevention and Toxics.

[FR Doc. 2020-11635 Filed 5-29-20; 8:45 am]

BILLING CODE 6560-50-P